NUCLEAR REGULATORY COMMISSION

[NRC-2010-0219]

License Renewal Interim Staff Guidance Process, Revision 2 Notice of Availability

AGENCY: Nuclear Regulatory Commission (NRC).

ACTION: Notice of availability.

SUMMARY: The NRC is issuing a revision to its license renewal interim staff guidance (LR-ISG) process. This revision is entitled, “License Renewal Interim Staff Guidance Process, Revision 2” (revised LR-ISG process). The LR-ISG process describes the basic framework for developing and implementing interim changes to certain NRC license renewal guidance documents. These guidance documents facilitate the implementation of and NRC staff review of license renewal applications submitted in accordance with Title 10 of the Code of Federal Regulations (10 CFR) Part 54, “Requirements for Renewal of Operating Licenses for Nuclear Power Plants,” and Part 51, “Environmental Protection Regulations for Domestic Licensing and Related Regulatory Functions.” An electronic copy of the revised LR-ISG process is available in the NRC's Agencywide Documents Access and Management System (ADAMS) under Accession No. ML100920158. The revised LR-ISG process supersedes the document entitled, “License Renewal Interim Staff Guidance Process, Revision 1” (ML091950069) (the previous LR-ISG process).

FOR FURTHER INFORMATION CONTACT: Mr. Matthew Homiack, Division of License Renewal, Office of Nuclear Reactor Regulation, U.S. Nuclear Regulatory Commission, Washington, DC 20555-0001; telephone 301-415-1683; or e-mail Matthew.Homiack@nrc.gov.

ADDRESSES: Documents created or received after November 1, 1999, are available electronically at the NRC's Public Electronic Reading Room on the Internet at http://www.nrc.gov/reading-rm/adams.html. From this site, the public can gain entry into ADAMS. If you do not have access to the Internet or if there are any problems in accessing the documents located in ADAMS, contact the NRC Public Document Room reference staff at 1-800-397-4209, 301-415-4737, or by e-mail at PDR.Resource@nrc.gov.

The NRC posts LR-ISGs and the LR-ISG process on its public Web page under the “License Renewal” heading at http://www.nrc.gov/reading-rm/doc-collections/isg.

SUPPLEMENTARY INFORMATION:

Background

The NRC issued the previous LR-ISG process on August 7, 2009, and a notice of availability was published in the Federal Register on August 17, 2009 (74 FR 41461). In this previous process, the NRC staff addressed a recommendation from the NRC's Office of the Inspector General (OIG) report, OIG-07-A-15, “Audit of the NRC's License Renewal Program,” dated September 6, 2007 (ML072490486). Accordingly, enhancements were made to the LR-ISG process for the NRC staff to evaluate and document its determinations as to whether LR-ISGs meet the provisions of 10 CFR 54.37(b) and 10 CFR 50.109. As part of this evaluation, the previous LR-ISG process references a draft version of NRC Regulatory Issue Summary (RIS) 2007-16, Revision 1, “Implementation of the Requirements of 10 CFR 54.37(b) for Holders of Renewed Licenses.” At the time the previous process was issued, the NRC staff had not issued the final RIS 2007-16, Revision 1.

After issuance of the previous LR-ISG process, the NRC staff identified the need to make some additional clarifications and administrative changes to the process. The clarifications concern the staff's evaluation of LR-ISGs under 10 CFR 54.37(b) and 10 CFR 50.109 and the applicability of LR-ISGs to renewed license holders. The administrative changes include reference to the final RIS 2007-16, Revision 1, which the NRC issued on April 28, 2010 (ML100250279), and minor changes to the format and content of LR-ISG documents.

The NRC staff incorporated these changes into the revised LR-ISG process, which was issued on June 14, 2010. The NRC did not publish a request for public comment in the Federal Register because of the administrative scope of the changes and clarifications.

Final Action

By this action, the NRC is notifying the public of issuance of the revised LR-ISG process. As of June 14, 2010, the NRC staff will use this process to guide the development and implementation of LR-ISGs.

Dated at Rockville, Maryland, this 14th day of June 2010.
For the Nuclear Regulatory Commission.
Brian E. Holian,
Director, Division of License Renewal, Office of Nuclear Reactor Regulation.

[FR Doc. 2010-15023 Filed 6-21-10; 8:45 am]

BILLING CODE 7590-01-P